DEPARTMENT OF COMMERCE

National Oceanic and Atmospheric Administration

RIN 0648-XC830

Pacific Fishery Management Council; Public Meeting

AGENCY: National Marine Fisheries Service (NMFS), National Oceanic and Atmospheric Administration (NOAA), Commerce.

ACTION: Notice of public meeting.

SUMMARY: The Pacific Fishery Management Council (Pacific Council) will convene a conference call of its Coastal Pelagic Species Management Team (CPSMT) and its Coastal Pelagic Species Advisory Subpanel (CPSAS). There may be opportunities for the public to attend the meeting remotely, and a public listening station will be made available.

DATES: The conference call will be held Thursday, September 12, 2013, from 1 p.m. until 3 p.m. Pacific Daylight Time.

ADDRESSES: The meeting will be held via conference call, with a public listening station available at the NOAA Southwest Fisheries Science Center, 8901 La Jolla Shores Dr., La Jolla, CA 92037-1508.

FOR FURTHER INFORMATION CONTACT: Kerry Griffin, Staff Officer; telephone: (503) 820-2280. For information regarding the public listening station, contact Dale Sweetnam, telephone: (858) 546-7170.

SUPPLEMENTARY INFORMATION: The primary purpose of the conference call is to discuss the September Council meeting agenda items I.1 (List of Fisheries) and I.2 (Unmanaged Forage Fish Protection Initiative). The secondary purpose of the conference call is to discuss preparations for the November Council meeting.

Action will be restricted to those issues specifically listed in this notice and any issues arising after publication of this notice that require emergency action under Section 305(c) of the Magnuson-Stevens Fishery Conservation and Management Act, provided the public has been notified of the Council's intent to take final action to address the emergency.

Special Accommodations

This listening station is physically accessible to people with disabilities. Requests for sign language interpretation or other auxiliary aids should be directed to Dale Sweetnam, at least 5 days prior to the meeting date.

Dated: August 21, 2013.
Tracey L. Thompson,
Acting Deputy Director, Office of Sustainable Fisheries, National Marine Fisheries Service.

[FR Doc. 2013-20737 Filed 8-23-13; 8:45 am]

BILLING CODE 3510-22-P